DEPARTMENT OF COMMERCE

National Oceanic and Atmospheric Administration

[RTID 0648-XD745]

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a two day in-person meeting of its Shrimp Advisory Panel (AP).

DATES: The meeting will convene Tuesday, March 19, 2024, from 8:30 a.m. to 5 p.m. and Wednesday, March 20, 2024, from 8:30 a.m. to 3 p.m., EDT. For agenda details, see SUPPLEMENTARY INFORMATION.

ADDRESSES: The meeting will take place at the Gulf Council office. Registration information will be available on the Council's website by visiting www.gulfcouncil.org and clicking on the Shrimp AP meeting on the calendar.

Council address: Gulf of Mexico Fishery Management Council, 4107 W Spruce Street, Suite 200, Tampa, FL 33607; telephone: (813) 348-1630.

FOR FURTHER INFORMATION CONTACT: Dr. Matt Freeman, Economist, Gulf of Mexico Fishery Management Council; matt.freeman@gulfcouncil.org, telephone: (813) 348-1630.

SUPPLEMENTARY INFORMATION: The following items are on the agenda, though agenda items may be addressed out of order (changes will be noted on the Council's website when possible.)

Tuesday, March 19, 2024; 8:30 a.m.-5 p.m. EDT (7:30 a.m.-4 p.m. CST)

Meeting will begin with Adoption of Agenda, Approval of Summary from the October 19, 2023 meeting, and Scope of Work. The AP will review and discuss Council Actions in Response to Motions from the October 2023 Shrimp AP Meeting, and then review Species-Specific Shrimp Effort Estimates and Status of Secure Digital (SD) Card Returns. The AP will receive an update on Wind Energy Areas in the Gulf of Mexico and hold a discussion on the Wind Energy Meeting in California.

The AP will receive updates on the following: Southeast Regional Office (SERO) Protected Resources, Sea Turtle Take and Turtle Excluder Devices (TED) Compliance; Smalltooth Sawfish Population Viability Analysis; NOAA Fisheries' National Seafood Strategy; Shrimp Futures Project; and Reducing Juvenile Sea Turtle Bycatch through Development of Reduced Bar Spacing TEDs. The AP will receive public comment at the end of each day.

Wednesday, March 20, 2024; 8:30 a.m.-3 p.m. EDT (7:30 a.m.-2 p.m. CST)

The AP will review the 2022 Gulf Shrimp Fishery Landings, the Biological Review of the 2023 Texas Closure, and the 2022 Royal Red Landings. The AP will receive updates and discuss Early Adopter Program, Draft Shrimp Framework Action and Research Track on SEDAR 87; and, receive public comment at the end of each day.

Lastly, the AP will receive any public testimony and discuss other business items: Remainder of Shrimp AP applications.

Meeting Adjourns—

The in-person meeting will be broadcast via webinar. You may register by visiting www.gulfcouncil.org and clicking on the Shrimp Advisory Panel meeting on the calendar.

The Agenda is subject to change, and the latest version along with other meeting materials will be posted on www.gulfcouncil.org as they become available.

Although other non-emergency issues not on the agenda may come before the Advisory Panel for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take-action to address the emergency at least 5 working days prior to the meeting.

Special Accommodations

These meetings are physically accessible to people with disabilities. Requests for sign language interpretation or other auxiliary aid or accommodations should be directed to Kathy Pereira, kathy.pereira@gulfcouncil.org, at least 5 days prior to the meeting date.

Authority: 16 U.S.C. 1801 et seq.

Dated: February 26, 2024.
Rey Israel Marquez,
Acting Deputy Director, Office of Sustainable Fisheries, National Marine Fisheries Service.

[FR Doc. 2024-04281 Filed 2-28-24; 8:45 am]

BILLING CODE 3510-22-P